INTERNATIONAL TRADE COMMISSION

[Investigation Nos. 731-TA-672-673 (Fourth Review)]

Silicomanganese From China and Ukraine; Determinations

On the basis of the record ¹ developed in the subject five-year reviews, the United States International Trade Commission (“Commission”) determines, pursuant to the Tariff Act of 1930 (“the Act”), that revocation of the antidumping duty orders on silicomanganese from China and Ukraine would be likely to lead to continuation or recurrence of material injury to an industry in the United States within a reasonably foreseeable time.²

¹ The record is defined in sec. 207.2(f) of the Commission's Rules of Practice and Procedure (19 CFR 207.2(f)).

² Commissioner Meredith M. Broadbent dissenting with respect to the determination regarding silicomanganese from China.

Background

The Commission, pursuant to section 751(c) of the Act (19 U.S.C. 1675(c)), instituted these reviews on October 2, 2017 (82 FR 45892) and determined on January 5, 2018 that it would conduct full reviews (83 FR 3025, January 22, 2018). Notice of the scheduling of the Commission's reviews and of a public hearing to be held in connection therewith was given by posting copies of the notice in the Office of the Secretary, U.S. International Trade Commission, Washington, DC, and by publishing the notice in the Federal Register on May 25, 2018 (83 FR 24346). The hearing was held in Washington, DC, on September 25, 2018, and all persons who requested the opportunity were permitted to appear in person or by counsel.

The Commission made these determinations pursuant to section 751(c) of the Act (19 U.S.C. 1675(c)). It completed and filed its determinations in these reviews on November 30, 2018. The views of the Commission are contained in USITC Publication 4845 (November 2018), entitled Silicomanganese from China and Ukraine: Investigation Nos. 731-TA-672-673 (Fourth Review).

By order of the Commission.
Issued: November 30, 2018.
Lisa Barton,
Secretary to the Commission.

[FR Doc. 2018-26500 Filed 12-4-18; 8:45 am]

BILLING CODE 7020-02-P